DEPARTMENT OF THE INTERIOR

Bureau of Land Management

[CA 660-06-5101-ER]

Proposed Wind Energy Project

AGENCY: Bureau of Land Management, Interior.

ACTION: Notice of intent to prepare a joint Environmental Impact Statement (EIS) and Environmental Impact Report (EIR).

SUMMARY: In compliance with the National Environmental Policy Act (NEPA) of 1969, 40 CFR 1508.22, and the California Environmental Quality Act (CEQA), notice is herby given that the Bureau of Land Management (BLM) and the City of Palm Springs intend to prepare a joint Environmental Impact Statement (EIS) and Environmental Impact Report (EIR) for a proposed wind energy facility on public and private land in the Coachella Valley. The EIS/EIR will describe and analyze alternatives for a proposed wind energy generating facility on approximately 600 acres in the Whitewater floodplain in the Coachella Valley, Riverside County, California.

DATES: This notice initiates the public scoping process. Comments on issues may be submitted in writing to the address listed below. Additionally, a public meeting will be held to encourage public input. The public meeting will be announced through the local news media, newspapers, and the BLM Web site (http://www.ca.blm.gov/palmsprings) at least 15 days prior to the event. Additional opportunities for public participation will be provided upon publication of the draft EIS/EIR.

ADDRESSES: Comments should be sent to Greg Hill, Wind Energy Project, Bureau of Land Management, 690 W. Garnet Ave., P.O. Box 581260, North Palm Springs, CA 92258 or by fax at (760) 251-4899, or by e-mail at gchill@ca.blm.gov. Documents pertinent to this proposal, including comments with the names and addresses of respondents, will be available for public review at the BLM Palm Springs-South Coast Field Office located at 690 W. Garnet Avenue, North Palm Springs, California, during regular business hours of 7:45 a.m. to 4:30 p.m., Monday through Friday, except holidays, and may be published as part of the EIS/EIR. Individual respondents may request confidentiality. If you wish to withhold your name or street address from public review or from disclosure under the Freedom of Information Act, you must state this prominently at the beginning of your written comment. Such requests will be honored to the extent allowed by law. BLM will not consider anonymous comments. All submissions from organizations and businesses, and from individuals identifying themselves as representatives or officials of organizations or businesses, will be available for public inspection in their entirety.

FOR FURTHER INFORMATION CONTACT: For further information and/or to have your name added to our mailing list, contact Greg Hill, Wind Energy Project, Bureau of Land Management, Palm Springs-South Coast Field Office, (760) 251-4840, or by e-mail at gchill@ca.blm.gov.

SUPPLEMENTARY INFORMATION: Mountain View Power Partners IV, LLC has applied for a right of way on public lands and a conditional use permit on private lands to construct a wind energy generating facility in the Coachella Valley, in Riverside County. The project site is west of Indian Avenue and is within the corporate boundary of the City of Palm Springs and within the planning area for the draft Coachella Valley Multiple Species Habitat Conservation Plan. Operations are expected to last approximately 30 years. The proposed project would install a total of approximately 42 to 50 wind turbines on public and private lands, with a total generating capacity of approximately 49 megawatts. Related structures would include access roads, a 34.5kV powerline and an electrical substation. If approved, the wind energy generating facility on public lands would be authorized in accordance with Title V of the Federal Land Policy and Management Act of 1976 (U.S.C.) and the Federal regulations at 43 CFR 2800. The proposed project would take approximately 7 months to construct.

Dated: January 10, 2006.
Gail Acheson,
Field Manager, Palm Springs-South Coast Field Office.

[FR Doc. E6-8681 Filed 6-2-06; 8:45 am]

BILLING CODE 4310-40-P